DEPARTMENT OF VETERANS AFFAIRS

38 CFR Part 17

RIN 2900-AN76

Disenrollment Procedures

AGENCY: Department of Veterans Affairs.

ACTION: Final rule.

SUMMARY: This document makes technical amendments to the Department of Veterans Affairs (VA) regulation concerning enrollment and disenrollment from the VA medical care system. It removes the “automatic enrollment” provision relevant to a 1998 trial enrollment program that has been discontinued. It also amends the regulation to reflect current VA practice and to update the address for documents mailed to the VA Health Eligibility Center. Finally, it provides an internet address for accessing VA Form 10-10EZ online.

DATES: Effective Date: August 27, 2010.

FOR FURTHER INFORMATION CONTACT: Roscoe Butler, Acting Director, Business Policy, Chief Business Office (163), Veterans Health Administration, Department of Veterans Affairs, 810 Vermont Avenue, NW., Washington, DC 20420, (202) 461-1586. (This is not a toll free number).

SUPPLEMENTARY INFORMATION: Current 38 CFR 17.36(d)(4) provides that “veterans who were notified by VA letter that they were enrolled in the VA healthcare system under the trial VA enrollment program prior to October 1, 1998, automatically will be enrolled in the VA healthcare system under this section.” We are removing this paragraph because all of the veterans in the 1998 trial enrollment program have been accounted for and the program has been discontinued. Therefore, the paragraph is no longer relevant.

Current § 17.36(d)(5)(i) provides that a veteran enrolled in the VA healthcare system will be disenrolled only if “[t]he veteran submits to a VA medical center or the VA Health Eligibility Center, 1644 Tullie Circle, Atlanta, Georgia 30329, a signed document stating that the veteran no longer wishes to be enrolled.” We are making two changes to this provision. First, this final rule prescribes that the veteran must sign and date the document. This is necessary to ensure that the document reflects the veteran's current intent. Second, the final rule updates the address for the VA Health Eligibility Center.

Current § 17.36(d)(5)(iii) provides that a veteran enrolled in the VA healthcare system will be disenrolled only if “[a] VA network or facility Director, or the Deputy Under Secretary for Health for Operations and Management or Chief, Health Administration Service or equivalent official at a VA medical facility, or Director, Health Eligibility Center, * * * determines that the veteran failed to return [a completed VA Form 10-10EZ] to the address on the return envelope within 60 days from receipt of the form.” We are removing paragraph (d)(5)(iii) in order to conform with current VA practice, which does not disenroll veterans based on their failure to file VA Form 10-10EZ. Current practice is reflected in current paragraph (d)(3)(iv). Removing paragraph (d)(5)(iii) also eliminates any potential for conflict or ambiguity between paragraphs (d)(3)(iv) and (d)(5)(iii).

Finally, we are revising § 17.36(f) to remove the reproduced image of the 1998 version of VA Form 10-10EZ, which has been superseded by the 2009 version of the form. Rather than reproduce an image of the form in the CFR, we will provide a link to the VA Web site where the current form is available for printing, downloading, or online submission. The form is also available at any VA medical center. This change will ensure that the CFR does not reference and depict an out-of-date form.

Administrative Procedure Act

VA finds, in accordance with 5 U.S.C. 533(b)(3)(A) of the Administrative Procedure Act (APA), that this final rule relates solely to agency organization, procedure, or practice. Therefore, the provisions of the APA regarding notice of the proposed rulemaking and opportunity for public participation are not applicable.

Unfunded Mandates

The Unfunded Mandates Reform Act of 1995 requires, at 2 U.S.C. 1532, that agencies prepare an assessment of anticipated costs and benefits before issuing any rule that may result in an expenditure by state, local, and tribal governments, in the aggregate, or by the private sector, of $100 million or more (adjusted annually for inflation) in any given year. This final rule would have no such effect on state, local, and tribal governments, or on the private sector.

Paperwork Reduction Act

Although 38 CFR 17.36, which this final rule amends, contains provisions constituting collections of information under the provisions of the Paperwork Reduction Act of 1995 (44 U.S.C. 3501-3521), the amendments establish no new or proposed revised collections of information. The information collection provisions for § 17.36 are currently approved by OMB and have been assigned OMB control number 2900-0091.

Executive Order 12866

Executive Order 12866 directs agencies to assess all costs and benefits of available regulatory alternatives and, when regulation is necessary, to select regulatory approaches that maximize net benefits (including potential economic, environmental, public health and safety, and other advantages; distributive impacts; and equity). The Executive Order classifies a regulatory action as a “significant regulatory action,” requiring review by OMB unless OMB waives such review, if it is a regulatory action that is likely to result in a rule that may: (1) Have an annual effect on the economy of $100 million or more or adversely affect in a material way the economy, a sector of the economy, productivity, competition, jobs, the environment, public health or safety, or state, local, or tribal governments or communities; (2) create a serious inconsistency or otherwise interfere with an action taken or planned by another agency; (3) materially alter the budgetary impact of entitlements, grants, user fees, or loan programs or the rights and obligations of recipients thereof; or (4) raise novel legal or policy issues arising out of legal mandates, the President's priorities, or the principles set forth in the Executive Order.

The economic, interagency, budgetary, legal, and policy implications of this final rule have been examined and it has been determined not to be a significant regulatory action under Executive Order 12866.

Regulatory Flexibility Act

The Secretary hereby certifies that this final rule will not have a significant economic impact on a substantial number of small entities as they are defined in the Regulatory Flexibility Act, 5 U.S.C. 601-612. This final rule concerns only VA organization, procedure, or practice, specifically with respect to enrollment and disenrollment of VA beneficiaries, and will not have a significant economic impact on healthcare providers, suppliers, or other entities since only a small portion of the business of such entities concerns VA beneficiaries. Therefore, pursuant to 5 U.S.C. 605(b), this final rule is exempt from the initial and final regulatory flexibility analysis requirements of sections 603 and 604.

Catalog of Federal Domestic Assistance

The Catalog of Federal Domestic Assistance numbers and titles for the programs affected by this document are 64.005, Grants to States for Construction of State Home Facilities; 64.007, Blind Rehabilitation Centers; 64.008, Veterans Domiciliary Care; 64.009, Veterans Medical Care Benefits; 64.010, Veterans Nursing Home Care; 64.011, Veterans Dental Care; 64.012, Veterans Prescription Service; 64.013, Veterans Prosthetic Appliances; 64.014, Veterans State Domiciliary Care; 64.015, Veterans State Nursing Home Care; 64.016, Veterans State Hospital Care; 64.018, Sharing Specialized Medical Resources; 64.019, Veterans Rehabilitation Alcohol and Drug Dependence; 64.022, Veterans Home Based Primary Care.

Signing Authority

The Secretary of Veterans Affairs, or designee, approved this document and authorized the undersigned to sign and submit the document to the Office of the Federal Register for publication electronically as an official document of the Department of Veterans Affairs. John R. Gingrich, Chief of Staff, Department of Veterans Affairs, approved this document on August 19, 2010, for publication.

List of Subjects in 38 CFR Part 17

Administrative practice and procedure; Alcohol abuse; Alcoholism; Claims; Day care; Dental health; Drug abuse; Government contracts; Grant programs—health; Grant programs—Veterans; Health care; Health facilities; Health professions; Health records; Homeless; Mental health programs; Nursing homes; Philippines, Reporting and recordkeeping requirements; Veterans.

Dated: August 23, 2010.
Robert C. McFetridge,
Director, Regulations Policy and Management, Office of the General Counsel, Department of Veterans Affairs.

For the reasons set forth in the preamble, 38 CFR part 17 is amended as follows:

PART 17—MEDICAL

1. The authority citation for part 17 continues to read as follows:

Authority: 38 U.S.C. 501, 1721, and as noted in specific sections.

2. Amend 17.36 by:

a. Removing and reserving paragraph (d)(4).

b. In paragraph (d)(5), introductory text, removing “or (d)(4)”.

c. Revising paragraph (d)(5)(i).

d. In paragraph (d)(5)(ii), removing “; or” and adding, in its place, a period.

e. Removing paragraph (d)(5)(iii).

f. Revising paragraph (f).

The revisions and addition read as follows:

§ 17.36 Enrollment—provision of hospital and outpatient care to veterans.

* * * * *

(d) * * *

(5) * * *

(i) The veteran submits to a VA Medical Center or to the VA Health Eligibility Center, 2957 Clairmont Road, NE., Suite 200, Atlanta, Georgia 30329-1647, a signed and dated document stating that the veteran no longer wishes to be enrolled; or

* * * * *

(f) VA Form 10-10EZ. Copies of VA Form 10-10EZ are available at any VA medical center and at https://www.1010ez.med.va.gov/sec/vha/1010ez/.

* * * * *

[FR Doc. 2010-21297 Filed 8-26-10; 8:45 am]

BILLING CODE 8320-01-P